DEPARTMENT OF VETERANS AFFAIRS

[OMB Control No. 2900-0390]

Agency Information Collection Activity Under OMB Review: Application of Surviving Spouse or Child for REPS Benefits (Restored Entitlement Program for Survivors)

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0390”.

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0390” in any correspondence.

SUPPLEMENTARY INFORMATION:

Authority: 38 U.S.C. 5101.

Title: Application of Surviving Spouse or Child for REPS Benefit (Restored Entitlement Program for Survivors).

OMB Control Number: 2900-0390.

Type of Review: Revision of a currently approved collection.

Abstract: VA Form 21P-8924 is primarily used to gather the necessary information to determine a claimant's eligibility for REPS benefits. Respondents are surviving spouses or schoolchildren who are establishing eligibility for REPS benefits. The beneficiary will complete this information collection and return it to the VA by mail or fax. Once the form is received by the VA, the information is reviewed to determine whether the beneficiary will establish entitlement or continued entitlement to REPS benefits. The information on the form is necessary to determine if the applicant meets REPS eligibility criteria. Without this information, determination of entitlement would not be possible. This is a revision of a currently approved collection as the respondent burden has decreased.

An agency may not conduct or sponsor, and a person is not required to respond to a collection of information unless it displays a currently valid OMB control number. The Federal Register Notice with a 60-day comment period soliciting comments on this collection of information was published at 89 FR 8521 on February 7, 2024, pages 8521 and 8522.

Affected Public: Individuals or households.

Estimated Annual Burden: 14 hours.

Estimated Average Burden per Respondent: 20 minutes.

Frequency of Response: One time.

Estimated Number of Respondents: 44.

By direction of the Secretary.
Maribel Aponte,
VA PRA Clearance Officer, Office of Enterprise and Integration, Data Governance Analytics, Department of Veterans Affairs.

[FR Doc. 2024-07863 Filed 4-12-24; 8:45 am]

BILLING CODE 8320-01-P